NATIONAL AERONAUTICS AND SPACE ADMINISTRATION

[Notice (00-036)]

Agency Information Collection: Submission for OMB Review, Comment Request

AGENCY: National Aeronautics and Space Administration (NASA).

ACTION: Notice of agency report forms under OMB review.

SUMMARY: The National Aeronautics and Space Administration has submitted to the Office of Management and Budget (OMB) the following proposal for the collection of information under the provisions of the Paperwork Reduction Act (44 U.S.C. Chapter 35).

DATES: Comments on this proposal should be received on or before May 14, 2000.

ADDRESSES: All comments should be addressed to Mr. Paul A. Boellner Code Q, National Aeronautics and Space Administration, Washington, DC 20546.

FOR FURTHER INFORMATION CONTACT: Ms. Carmela Simonson, Office of the Chief Information Officer, (202) 358-1223.

Reports: None.

Title: NASA Safety Reporting System.

OMB Number: 2700-0063.

Type of Review: Extension.

Need and Uses: NASA employees and contractors can voluntarily and confidentially report to an independent agent, any safety concerns or hazards pertaining to any NASA program or project, which have not been resolved through the normal process.

Affected Public: Federal government.

Estimated Number of Respondents: 75.

Responses Per Respondent: 1.

Estimated Annual Responses: 75.

Estimated Hours Per Request: ¼ hr.

Estimated Annual Burden Hours: 19 hrs.

Frequency of Report: As needed.

David B. Nelson,
Deputy Chief Information Officer, Office of the Administrator.

[FR Doc. 00-9263 Filed 4-13-00; 8:45 am]

BILLING CODE 7510-01-P